DEPARTMENT OF TRANSPORTATION

Federal Aviation Administration

14 CFR Part 73

[Docket No. FAA-2008-0257; Airspace Docket No. 08-AAL-7]

RIN 2120-AA66

Revision of Restricted Area 2204; Oliktok Point, AK

AGENCY: Federal Aviation Administration (FAA), DOT.

ACTION: Final rule.

SUMMARY: This action changes the using agency of Restricted Area 2204 (R-2204), Oliktok Point, AK, from “Department of Energy, Sandia National Labs/National Nuclear Security Administration, Albuquerque, NM” to “Department of Energy, Office of Science, Washington, DC.” The FAA is taking this action in response to a request from the United States (U.S.) Department of Energy to reflect an administrative change of responsibility for the restricted area. This action also revises R-2204, by subdividing the area to create R-2204 High and R-2204 Low. The overall dimensions of R-2204 will remain the same; however, establishing of R-2204 High and R-2204 Low will enable the Department of Energy to activate only that portion of the airspace that is actually needed to contain their operations.

DATES: Effective Date: 0901 UTC, July 31, 2008.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

Background

At the request of the U.S. Department of Energy, the FAA is changing the designated using agency for R-2204 in Alaska. The U.S. Department of Energy is assuming primary responsibility for operations as using agency from their contractor, Sandia Labs. In addition to the action above, the U.S. Department of Energy has assessed their planned operations within Restricted Area R-2204 and determined that many of the operations will be conducted at an altitude below 1,500 feet (ft.) above Mean Sea Level (MSL), and, therefore higher altitudes are not needed for these activities. The primary benefit of this action is to make lower altitudes available on Federal Airway V-438 between the Deadhorse Very High Frequency Omnidirectional Range (VOR) and the Barrow VOR during most periods when Restricted Area R-2204 is active.

The Rule

This action amends Title 14 Code of Federal Regulations (14 CFR) part 73 by changing the R-2204 using agency currently shown as, “Department of Energy, Sandia National Labs/National Nuclear Security Administration, Albuquerque, NM” to “Department of Energy, Office of Science, Washington, DC.” This action also subdivides R-2204 into R-2204 Low from the surface of the earth up to, but not including 1,500 ft. MSL and R-2204 High from 1,500 ft. MSL up to, but not including, 7,000 ft. MSL. This will make airspace available for flight under visual flight rules (VFR) and will permit instrument flight rules (IFR) altitudes on V-438 to be available during periods when R-2204 Low is needed to contain activity conducted at altitudes below 1,500 ft. MSL. Accordingly, since this action permits greater access to airspace by both VFR and IFR aircraft during periods of activation of R-2204, High and Low, public procedures under 5 U.S.C. 533(b) are unnecessary.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it amends restricted areas in Alaska.

Environmental Review

The FAA has determined that this action qualifies for categorical exclusion under the National Environmental Policy Act in accordance with 311d., FAA Order 1050.1E, “Environmental Impacts: Policies and Procedures.” This airspace action is not expected to cause any potentially significant environmental impacts, and no extraordinary circumstances exist that warrant preparation of an environmental assessment.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.22 [Amended]

2. § 73.22 is amended as follows:

* * * * *

R-2204 Oliktok Point, AK [Remove]

* * * * *

R-2204 Oliktok Point High, AK [New]

Boundaries. Within a 2 NM radius centered at lat. 70°30′35″ N., long. 149°51′33″ W.

Designated altitudes. 1,500 feet MSL to, but not including, 7,000 feet MSL.

Time of designation: By NOTAM, 24 hours in advance, not to exceed 30 days annually.

Controlling agency. FAA, Anchorage ARTCC.

Using agency. Department of Energy, Office of Science, Washington, DC.

R-2204 Oliktok Point Low, AK [New]

Boundaries. Within a 2 NM radius centered at lat. 70°30′35″ N., long. 149°51′33″ W.

Designated altitudes. Surface to, but not including, 1,500 feet MSL.

Time of designation: By NOTAM, 24 hours in advance, not to exceed 30 days annually.

Controlling agency. FAA, Anchorage ARTCC.

Using agency. Department of Energy, Office of Science, Washington, DC.

* * * * *

Issued in Washington, DC, on April 14, 2008.
Stephen L. Rohring,
Acting Manager, Airspace and Rules Group.

[FR Doc. E8-8579 Filed 4-18-08; 8:45 am]

BILLING CODE 4910-13-P